DEPARTMENT OF TRANSPORTATION

Federal Aviation Administration

14 CFR Part 39

[Docket No. FAA-2012-1331; Directorate Identifier 2012-NE-44-AD]

RIN 2120-AA64

Airworthiness Directives; Rolls-Royce (1971) Limited, Bristol Engine Division Turbojet Engines

AGENCY: Federal Aviation Administration (FAA), DOT.

ACTION: Notice of proposed rulemaking (NPRM).

SUMMARY: We propose to adopt a new airworthiness directive (AD) for all Rolls-Royce (1971) Limited, Bristol Engine Division (RR) Viper Mk. 601-22 turbojet engines. This proposed AD was prompted by a review carried out by RR of the lives of certain critical parts. This proposed AD would require reducing the life of these parts. We are proposing this AD to prevent life-limited part failure, damage to the engine, and damage to the airplane.

DATES: We must receive comments on this proposed AD by April 23, 2013.

ADDRESSES: You may send comments by any of the following methods:

• Federal eRulemaking Portal: Go to http://www.regulations.gov and follow the instructions for sending your comments electronically.

• Mail: U.S. Department of Transportation, 1200 New Jersey Avenue SE., West Building Ground Floor, Room W12-140, Washington, DC 20590-0001.

• Hand Delivery: Deliver to Mail address above between 9 a.m. and 5 p.m., Monday through Friday, except Federal holidays.

• Fax: (202) 493-2251.

For service information identified in this AD, contact Rolls-Royce plc, Corporate Communications, P.O. Box 31, Derby, England, DE248BJ; phone: 011-44-1332-242424; fax: 011-44-1332-249936; or email: http://www.rolls-royce.com/contact/civil_team.jsp. You may view this service information at the FAA, Engine & Propeller Directorate, 12 New England Executive Park, Burlington, MA 01803. For information on the availability of this material at the FAA, call 781-238-7125.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (phone: (800) 647-5527) is the same as the Mail address provided in the ADDRESSES section. Comments will be available in the AD docket shortly after receipt.

FOR FURTHER INFORMATION CONTACT: Robert Green, Aerospace Engineer, Engine Certification Office, FAA, Engine & Propeller Directorate, 12 New England Executive Park, Burlington, MA 01803; phone: 781-238-7754; fax: 781-238-7199; email: Robert.Green@faa.gov.

SUPPLEMENTARY INFORMATION:

Comments Invited

We invite you to send any written relevant data, views, or arguments about this proposed AD. Send your comments to an address listed under the ADDRESSES section. Include “Docket No. FAA-2012-1331; Directorate Identifier 2012-NE-44-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Discussion

The European Aviation Safety Agency (EASA), which is the Technical Agent for the Member States of the European Community, has issued EASA Airworthiness Directive 2012-0243 (Correction: November 13, 2012), dated November 12, 2012, a Mandatory Continuing Airworthiness Information (referred to hereinafter as “the MCAI”), to correct an unsafe condition for the specified products. The MCAI states:

A review, carried out by Rolls-Royce, of the lives of critical parts of the Viper Mk. 601-22 engine, has resulted in reduced cyclic life limits for certain critical parts.

Operation of critical parts beyond these reduced cyclic life limits may result in part failure, possibly resulting in the release of high-energy debris, which may cause damage to the aeroplane and/or injury to the occupants.

For the reasons described above, this AD requires implementation of the reduced cyclic life limits for the affected critical parts, i.e., replacement of each part before the applicable reduced life limit is exceeded, and replacement of those critical parts that have already exceeded the reduced cyclic life limits.

You may obtain further information by examining the MCAI in the AD docket.

Relevant Service Information

RR Alert Service Bulletin 72-A206, dated November, 2012.

FAA's Determination and Requirements of This Proposed AD

This product has been approved by the aviation authority of the United Kingdom and is approved for operation in the United States. Pursuant to our bilateral agreement with the European Community, EASA has notified us of the unsafe condition described in the MCAI and service information referenced above. We are proposing this AD because we evaluated all information provided by EASA and determined the unsafe condition exists and is likely to exist or develop on other products of the same type design. This proposed AD would require reducing the life of certain critical parts.

Costs of Compliance

We estimate that this proposed AD affects 32 engines installed on airplanes of U.S. registry. We also estimate that it would take 0 hours per product to comply with this proposed AD. The average labor rate is $85 per hour. We are not requiring parts replacement, so parts cost is $0. We estimate the cost of the proposed AD on U.S. operators to be $0.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Rolls-Royce (1971) Limited, Bristol Engine Division: Docket No. FAA-2012-1331; Directorate Identifier 2012-NE-44-AD.

(a) Comments Due Date

We must receive comments by April 23, 2013.

(b) Affected Airworthiness Directives (ADs)

None.

(c) Applicability

This AD applies to all Rolls-Royce (1971) Limited, Bristol Engine Division (RR) Viper Mk. 601-22 turbojet engines.

(d) Reason

This AD was prompted by a review carried out by RR of the lives of certain critical parts. We are issuing this AD to prevent life-limited part failure, damage to the engine, and damage to the airplane.

(e) Actions and Compliance

Unless already done, do the following actions.

(1) After the effective date of this AD, remove the following parts before they reach their specified new, lower life limits: compressor shaft, part number (P/N) V900766: 20,720 flight cycles since new (CSN); compressor rear stubshaft (center bearing hub), P/Ns V900007 and V900994: 9,600 CSN; combustion chamber outer casing, P/Ns V950013 and V950331: 32,000 CSN.

(2) After the effective date of this AD, do not install any part identified in paragraph (e)(1) of this AD into any engine, nor return any engine to service, with the parts identified in paragraph (e)(1) of this AD installed, if the part exceeds the new, lower life limits specified in paragraph (e)(1) of this AD.

(f) Alternative Methods of Compliance (AMOCs)

The Manager, Engine Certification Office, FAA, may approve AMOCs for this AD. Use the procedures found in 14 CFR 39.19 to make your request.

(g) Related Information

(1) For more information about this AD, contact Robert Green, Aerospace Engineer, Engine Certification Office, FAA, Engine & Propeller Directorate, 12 New England Executive Park, Burlington, MA 01803; phone: 781-238-7754; fax: 781-238-7199; email: Robert.Green@faa.gov.

(2) Refer to European Aviation Safety Agency Airworthiness Directive 2012-0243 (Correction: November 13, 2012), dated November 12, 2012, and Rolls-Royce Alert Service Bulletin 72-A206, dated November, 2012, for related information.

(3) For service information identified in this AD, contact Rolls-Royce plc, Corporate Communications, P.O. Box 31, Derby, England, DE248BJ; phone: 011-44-1332-242424; fax: 011-44-1332-249936; or email: http://www.rolls-royce.com/contact/civil_team.jsp. You may view this service information at the FAA, Engine & Propeller Directorate, 12 New England Executive Park, Burlington, MA 01803. For information on the availability of this material at the FAA, call 781-238-7125.

Issued in Burlington, Massachusetts, on February 15, 2013.
Robert J. Ganley,
Acting Manager, Engine & Propeller Directorate, Aircraft Certification Service.

[FR Doc. 2013-04103 Filed 2-21-13; 8:45 am]

BILLING CODE 4910-13-P